DEPARTMENT OF HEALTH AND HUMAN SERVICES

Centers for Disease Control and Prevention

[30 Day-17-17BM]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Measuring Well-Being for Total Worker Health—New—National Institute for Occupational Safety and Health (NIOSH), Centers for Disease Control and Prevention (CDC).

Background and Brief Description

As mandated in the Occupational Safety and Health Act of 1970 (Pub. L. 91-596), the mission of the National Institute for Occupational Safety and Health (NIOSH) is to conduct research and investigations on work-related disease and injury and to disseminate information for preventing identified workplace hazards (Sections 20(a)(1) and (d), Attachment 1).

Organizations work to cultivate well-being to improve employee safety and health. Well-being can contribute to physical health and conversely, its absence may foster disease and mental disorders. Yet, in order to invest in employee well-being it is necessary to define and measure it. The Total Worker Health® (TWH) Program within the National Institute for Occupational Safety and Health (NIOSH) has made worker well-being a key aspect of its mission. TWH is defined as policies, programs, and practices that integrate protection from work-related safety and health hazards with promotion of injury and illness prevention efforts to advance worker well-being. Through an integrated approach, its end goal is not only the lack of disease or injury, but also a culture of safety and health and an enhancement of overall well-being (NIOSH, 2016). Measuring worker well-being is the first step towards improving workplace policies, programs, and practices to promote prevention of disease and injury

The TWH Program's interest in the concept of worker well-being is consistent with other efforts across the nation. Well-being is now a common feature across the public health literature, as it reflects the expanded goals to create the conditions for health and foster a culture of health rather than to simply treat injury and illness (EASHW, 2013; City of Santa Monica, 2016; OECD, 2016). However, while the concept of well-being has been considered by many disciplines throughout history, there has been no consistent definition or consensus around measurement and application. The ambiguity around this very broad concept creates challenges for any program or initiative that aims to advance the well-being of individual workers or workplaces. Through a comprehensive and multidisciplinary literature review, this project developed a conceptual framework of worker well-being that provided the basis for development of a worker well-being survey instrument.

For this study, data is being collected from a nationwide online panel of employed adults. The survey includes questions on five domains of worker well-being including: Worker evaluation and experiences with work, workplace physical environment and safety climate, organizational policies and culture, worker health status, and experiences outside of work (external context). The instrument will be programmed into a web-based survey that will be administered online to an existing nationwide survey panel (KnowledgePanel®) hosted by our vendor, GfK. The field period for data collection will be about 3 weeks. The provided instrument is intended to offer a comprehensive assessment and measurement of worker well-being across multiple domains; however the instrument itself has not yet been rigorously tested on its psychometric properties. Such work is necessary to ensure that the survey is considered a validated instrument that can be used to collect accurate and reliable data on worker well-being.

The total estimated burden hours is 342. There are no costs to the respondent other than their time.

Estimated Annualized Burden Hours
Type of respondents | Form name | Number of respondents | Number of responses per respondent | Average burden per response (in hours)
GfK Panel Members | Worker Well-Being | 1,025 | 1 | 20/60

Leroy A. Richardson,
Chief, Information Collection Review Office, Office of Scientific Integrity, Office of the Associate Director for Science, Office of the Director, Centers for Disease Control and Prevention.

[FR Doc. 2017-07959 Filed 4-19-17; 8:45 am]

BILLING CODE 4163-18-P